DEPARTMENT OF ENERGY

Federal Energy Regulatory Commission

[Docket No. PR01-6-000]

Enogex, Inc; Notice of Petition for Rate Approval

February 21, 2001.

Take notice that on January 23, 2001, Enogex, Inc. (Enogex) filed a petition for rate approval, pursuant to section 284.123(b)(2) of the Commission's regulations, to change the manner in which it charges for fuel use on its system. Enogex proposes to include a new definition of “System Fuel” in the statement of operating conditions; to institute a fuel tracker and to price-adjust the annual fuel tracker to account for fuel on a value equivalent basis; to make the mainline transmission fuel retention percentage applicable to the transportation of all gas received and delivered on Enogex's mainline transmission system, including receipts and deliveries of gas that is first compressed and dehydrated on Enogex's low pressure gathering systems.

Pursuant to section 284.123(b)(2)(ii) of the Commission's regulations, if the Commission does not act within 150 days of the Petition's filing date, the rates proposed therein will be deemed to be fair and equitable and not in excess of an amount that interstate pipelines would be permitted to charge for similar services. The Commission may, prior to the expiration of the 150-day period, extend the time for action or institute a proceeding.

Any person desiring to participate in this rate proceeding must file a motion to intervene or protest with the Federal Energy Regulatory Commission, 888 First Street, NE., Washington, D.C. 20426, in accordance with rules 211 and 214 of the Commission's Rules of Practice and Procedure (18 CFR 385.211 and 385.214). All motions must be filed with the Secretary of the Commission on or before March 8, 2001. This petition for rate approval is on file with the Commission and is available for public inspection. This filing may be viewed on the web at http://www.ferc.fed.us/online/rims.htm (call 202-208-2222 for assistance). Comments and protests may be filed electronically via the internet in lieu of paper. See, 18 CFR 385.200(a)(1)(iii) and the instruction on the Commission's web site at http://www.ferc.fed.us.efi/doorbell.htm.

David P. Boergers,
Secretary.

[FR Doc. 01-4637 Filed 2-23-01; 8:45 am]

BILLING CODE 6717-01-M